ENVIRONMENTAL PROTECTION AGENCY

40 CFR Part 766

[EPA-HQ-OPPT-2014-0261; FRL-9911-88]

Receipt of Request for Waiver From Testing

AGENCY: Environmental Protection Agency (EPA).

ACTION: Receipt of request for waiver from testing.

SUMMARY: EPA received from Nation Ford Chemical (NFC) a request for a waiver from testing requirements promulgated by rule under section 4 of the Toxic Substances Control Act to ascertain whether certain specified chemical substances may be contaminated with halogenated dibenzodioxins (HDDs)/dibenzofurans (HDFs). EPA will accept comments on this request and will publish another Federal Register document on or before July 21, 2014, announcing its decision on this request.

DATES: Comments must be received on or before July 17, 2014.

ADDRESSES: Submit your comments, identified by docket identification (ID) number EPA-HQ-OPPT-2014-0261, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Hiroshi Dodahara, National Program Chemicals Division, Office of Pollution Prevention and Toxics (7404T), Environmental Protection Agency, 1200 Pennsylvania Ave. NW., Washington, DC 20460-0001; telephone number: (202) 566-0507; email address: dodahara.hiroshi@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the request for waiver. If you have any questions regarding the applicability of this action to a particular entity, consult the technical person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What action is the agency taking?

EPA is announcing receipt of a request for waiver from testing from NFC. EPA will accept comments on this request on or before July 17, 2014 and will publish another Federal Register document announcing its decisions on this request. See 40 CFR 766.32(c).

B. What is the agency's authority for taking this action?

Under 40 CFR part 766, EPA requires testing of certain chemical substances to determine whether they may be contaminated with HDDs and HDFs. Under 40 CFR 766.32(a)(2)(ii), a waiver may be granted if, in the judgment of EPA, the cost of testing would drive the chemical substance off the market, or prevent resumption of manufacture or import of the chemical substance, if it is not currently manufactured, and the chemical substance will be produced so that no unreasonable risk will occur due to its manufacture, import, processing, distribution, use, or disposal. The manufacturer must submit to EPA all data supporting the determination.

Under 40 CFR 766.32(b), a request for a waiver must be made 60 days before resumption of manufacture or importation of a chemical substance not being manufactured, imported, or processed as of June 5, 1987.

On May 21, 2014, EPA received a completed waiver request from NFC under 40 CFR 766.32(a)(2)(ii) (Ref. 1). NFC originally sent a waiver request in a letter dated March 18, 2014 (Ref. 2), which was amended for a technical correction in a letter resubmitted on April 2, 2014 (Ref. 3). EPA informed NFC by letter (Ref. 4) that it would need to submit certain additional information before the submission was complete and EPA could begin its review of the request. The resubmitted request indicates that NFC intends to import 2,3,5,6-tetrachloro-2,5-cyclohexadienel,4-dione (Chloranil) (CASRN 118-75-2), a chemical substance subject to testing under 40 CFR part 766, to use chloranil as a substitute for an ingredient in the manufacture of a pigment (Ref. 1).

III. References

The following is a listing of the documents that are specifically referenced in this document. The docket includes these documents and other information considered by EPA, including documents that are referenced within the documents that are included in the docket, even if the referenced document is not physically located in the docket. For assistance in locating these other documents, please consult the technical person listed under FOR FURTHER INFORMATION CONTACT.

1. National Ford Chemical. Letter from Phillip McCarter to Tanya Hodge Mottley, May 16, 2014 (Received by EPA on May 21, 2014).

2. National Ford Chemical. Letter from Phillip McCarter to Wendy Cleland-Hamnett, March 18, 2014. (Received by EPA on March 27, 2014).

3. National Ford Chemical. Technical Correction to Letter from Phillip McCarter to Wendy Cleland-Hamnett, March 18, 2014. (Received by EPA on April 2, 2014).

4. EPA. Letter to Phillip McCarter from Tanya Hodge Mottley, May 5, 2014.

List of Subjects in 40 CFR Part 766

Environmental protection, Chloranil, Dibenzofurans, Dioxins, Hazardous substances.

Dated: June 9, 2014.
Wendy C. Hamnett,
Director, Office of Pollution Prevention and Toxics.

[FR Doc. 2014-14122 Filed 6-16-14; 8:45 am]

BILLING CODE 6560-50-P